DEPARTMENT OF AGRICULTURE

Food and Nutrition Service

Agency Information Collection Activities: Supplemental Nutrition Assistance Program (SNAP) Forms: Applications, Periodic Reporting, and Notices

AGENCY: Food and Nutrition Service (FNS), USDA.

ACTION: Notice.

SUMMARY: In accordance with the Paperwork Reduction Act of 1995, this notice invites the general public and other public agencies to comment on the proposed information collection. This collection is a revision of the currently approved collection for the applications, periodic reporting, and notices burden calculations for the Supplemental Nutrition Assistance Program (SNAP).

DATES: Written comments must be received on or before August 4, 2020.

ADDRESSES: The Food and Nutrition Service, USDA, invites interested persons to submit written comment.

• Preferred Method: Federal eRulemaking Portal. Go to http://www.regulations.gov, and follow the online instructions for submitting comments electronically.

• Mail: Send comments to Certification Policy Branch, Program Development Division, FNS, 1320 Braddock Place, Alexandria, VA 22314.

All responses to this notice will be summarized and included in the request for Office of Management and Budget (OMB) approval. All comments will be a matter of public record.

FOR FURTHER INFORMATION CONTACT: Requests for additional information or copies of this information collection should be directed to the Certification Policy Branch, Program Development Division, FNS, 1320 Braddock Place, Alexandria, VA 22314 or via email to SNAPCPBRules@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program Forms: Applications, Periodic Reporting, and Notices.

Form Number: None.

OMB Number: 0584-0064.

Expiration Date: July 31, 2020.

Type of Request: Revision of a currently approved collection.

Abstract: The information collection addresses the burden estimates associated with applications, which are designed at the State level; periodic reporting; and notices sent to SNAP participants or applicants (Individuals/Households). Following Federal requirements, State agencies are responsible for determining the eligibility of SNAP applicant individuals or the entire household, and issuing benefits to those households entitled to benefits under the Food and Nutrition Act of 2008 (the Act), as amended. State agencies obtain demographics such as: Names, social security numbers, and date of births of all household members; addresses; and individual or household income information from households through the initial application and recertification processes as well as through various reports to determine program eligibility and benefit levels. SNAP notices sent to individual or household addresses are the primary method State agencies communicate with SNAP applicants and current participants. This information must be collected from households to ensure that they are eligible for the program and that they receive the correct amount of SNAP benefits. The Federal procedures for implementing the application and certification procedures in the Act are in Parts 271, 272, and 273 of the Title 7 of the Code of Federal Regulations (CFR). Part 271 contains general information and definitions, Part 272 contains requirements for participating State agencies, and Part 273 contains procedures for the certification of eligible households.

In the process of renewing this information collection with changes, FNS modified the burden of some of its reporting and recordkeeping requirements to reflect current SNAP caseload levels and to better account for the complexity of certain activities applicable to State agencies, Local agencies, and Individuals/Households. In addition, FNS included burden for a set of existing requirements applicable to State agencies and Individuals/Households that were not delineated in previous burden tables. The burden for this set of requirements, listed below, was combined with the burden of the requirements in the current approval and thus, represent an increase in total annual responses and total annual burden hours for 53 State agencies, 2,724 Local agencies and 19,699,000 Individuals/Households.

1. Failure to Report Shelter Costs Change Due to Move Notice (7 CFR 273.14(b)): Under this requirement, 53 State agencies will each send, on average, 9,678.98 notifications to households who have changed their address and have not provided updated information about their shelter costs that their allotment will be recalculated without any new deductions. Thus, the information collection activities associated with this requirement result in 512,986 responses for State agencies. FNS estimates that it takes States approximately 2 minutes (0.0334 hours) per response, resulting in 17,133.73 burden hours. This adjustment to the burden reflects an increase of 512,986 total annual responses and 17,133.73 total annual burden hours for States agencies. FNS also estimates that 512,986 households will each read one notification. Thus, the information collection activities associated with this requirement result in 512,986 responses for households. FNS estimates that it takes households approximately 1 minute (0.0167 hours) per response, resulting in 8,566.87 burden hours. This adjustment to the burden reflects an increase of 512,986 total annual responses and 8,566.87 total annual burden hours for households.

2. Report of ABAWDs Change in Work Hours below 20 Hours per Week (7 CFR 273.24(b)(7)): Under this requirement, 53 State agencies will each review, on average, 14,049.81 reports from SNAP participating households when any eligible member has had a reduction in work hours below an average of 20 hours per week, averaged monthly. Thus, the information collection activities associated with this requirement result in 744,640 responses for State agencies. FNS estimates that it takes States approximately 11 minutes (0.1837 hours) per response, resulting in 136,790.37 burden hours. This adjustment to the burden reflects an increase of 744,640 total annual responses and 136,790.37 total annual burden hours for States agencies. FNS also estimates that 744,640 households will each submit one report. Thus, the information collection activities associated with this requirement result in 744,640 responses for households. FNS estimates that it takes households approximately 10 minutes (0.167 hours) per response, resulting in 124,354.88 burden hours. This adjustment to the burden reflects an increase of 744,640 total annual responses and 124,354.88 total annual burden hours for households.

3. Notice of Option to Disqualify Custodial Parent for Failure to Cooperate (7 CFR 273.11(o)(2)): Under this requirement, 53 State agencies will each send, on average, 6,173.40 notifications to inform custodial parents of a right to good cause for non-cooperation prior to a State agency requiring cooperation from a parent. Thus, the information collection activities associated with this requirement result in 327,190 responses for State agencies. FNS estimates that it takes States approximately 3 minutes (0.0501 hours) per response, resulting in 16,392.22 burden hours. This adjustment to the burden reflects an increase of 327,190 total annual responses and 16,392.22 total annual burden hours for States agencies. FNS also estimates that 327,190 custodial parents (individual or household) will each read one notification. Thus, the information collection activities associated with this requirement result in 327,190 responses for households. FNS estimates that it takes households approximately 5 minutes (0.0835 hours) per response, resulting in 27,320.37 burden hours. This adjustment to the burden reflects an increase of 327,190 total annual responses and 27,320.37 total annual burden hours for households.

4. Notice of Match Results (7 CFR 273.12(c)(3)(iii)): Under this requirement, 53 State agencies will each distribute, on average, 9,044.23 notices of match results to households for which the State agency receives match information related to a Prison Verification System notification or a deceased individual. Thus, the information collection activities associated with this requirement result in 479,344 responses for State agencies. FNS estimates that it takes States approximately 3 minutes (0.0501 hours) per response, resulting in 24,015.13 burden hours. This adjustment to the burden reflects an increase of 479,344 total annual responses and 24,015.13 total annual burden hours for States agencies. FNS also estimates that 383,475 households will each read one notification. Thus, the information collection activities associated with this requirement result in 383,475 responses for households. FNS estimates that it takes households approximately 5 minutes (0.0835 hours) per response, resulting in 32,020.16 burden hours. This adjustment to the burden reflects an increase of 383,475 total annual responses and 32,020.16 total annual burden hours for households.

5. Notice of Subject to Work Requirements (7 CFR 273.7(c)(1)): Under this requirement, 53 State agencies will each provide, on average, 98,566.04 written statements to eligible household members under the work provision requirements of 7 CFR 273.7 explaining work requirements, the rights and responsibilities of eligible members, and the consequences for failing to comply. Thus, the information collection activities associated with this requirement result in 5,224,000 responses for State agencies. FNS estimates that it takes States approximately 3 minutes (0.0501 hours) per response, resulting in 261,722.40 burden hours. This adjustment to the burden reflects an increase of 5,224,000 total annual responses and 261,722.40 total annual burden hours for States agencies. FNS also estimates that 4,179,200 household members will each read one written statement. Thus, the information collection activities associated with this requirement result in 4,179,200 responses for households. FNS estimates that it takes households approximately 5 minutes (0.0835 hours) per response, resulting in 348,963.20 burden hours. This adjustment to the burden reflects an increase of 4,179,200 total annual responses and 348,963.20 total annual burden hours for households.

6. Referral to Employment & Training and Notice of Requirements (7 CFR 273.7(c)(2)): Under this requirement, State agencies must screen each work registrant to determine whether it is appropriate to refer the individual to an E&T program. Fifty-three (53) State agencies will each issue, on average, 2,424.43 notices to participants of the requirements of the E&T program component, what will constitute non-compliance, and the sanctions for non-compliance. Thus, the information collection activities associated with this requirement result in 128,495 responses for State agencies. FNS estimates that it takes States approximately 3 minutes (0.0501 hours) per response, resulting in 6,437.60 burden hours. This adjustment to the burden reflects an increase of 128,495 total annual responses and 6,437.60 total annual burden hours for States agencies. FNS also estimates that 102,796 households will each read one notice. Thus, the information collection activities associated with this requirement result in 102,796 responses for households. FNS estimates that it takes households approximately 5 minutes (0.0835 hours) per response, resulting in 8,583.47 burden hours. This adjustment to the burden reflects an increase of 102,796 total annual responses and 8,583.47 total annual burden hours for households.

7. Notice of Required Verification (7 CFR 273.2(c)(5)): Under this requirement, 53 State agencies will each provide, on average, 617,338.72 notices to households with all verification requirements the household must meet at the time of application for certification and recertification. Thus, the information collection activities associated with this requirement result in 32,718,952 responses for State agencies. FNS estimates that it takes States approximately 3 minutes (0.0501 hours) per response, resulting in 1,639,219.50 burden hours. This adjustment to the burden reflects an increase of 32,718,952 total annual responses and 1,639,219.50 total annual burden hours for States agencies. FNS also estimates that 26,175,162 households will each read one notice. Thus, the information collection activities associated with this requirement result in 26,175,162 responses for households. FNS estimates that it takes households approximately 5 minutes (0.0835 hours) per response, resulting in 2,185,626.03 burden hours. This adjustment to the burden reflects an increase of 26,175,162 total annual responses and 2,185,626.03 total annual burden hours for households.

8. Fleeing Felon and Probation or Parole Violators Determination (7 CFR 273.11(n)(3)-(4)): Under this requirement, 53 State agencies will each send, on average, 12,346.77 requests for information to a law enforcement agency about the conditions of a felony warrant or a probation or parole violation for a SNAP participant, and verify if a law enforcement agency has taken any action following the initial request for information. Thus, the information collection activities associated with this requirement result in 654,379 responses for State agencies. FNS estimates that it takes States approximately 3 minutes (0.0501 hours) per response, resulting in 32,784.39 burden hours. This adjustment to the burden reflects an increase of 654,379 total annual responses and 32,784.39 total annual burden hours for States agencies. FNS also estimates that 654,379 households will each read one notice. Thus, the information collection activities associated with this requirement result in 654,379 responses for households. FNS estimates that it takes households approximately 3 minutes (0.0501 hours) per response, resulting in 32,784.39 burden hours. This adjustment to the burden reflects an increase of 654,379 total annual responses and 32,784.39 total annual burden hours for households.

9. Mass Change in Federal Benefits (7 CFR 273.12(e)(3)): Under this requirement, 53 State agencies will each establish procedures for making mass changes to reflect cost of living adjustments in benefits and any other mass changes under Retirement, Survivors, and Disability Insurance (RSDI) and Supplemental Security Income (SSI) once annually. Thus, the information collection activities associated with this requirement result in 53 responses for State agencies. FNS estimates that it takes States 10 hours per response, resulting in 530.00 burden hours. This adjustment to the burden reflects an increase of 53 total annual responses and 530.00 total annual burden hours for States agencies. There are no burden activities required for households.

10. Change Report Form (7 CFR 273.12(b)(4)): Under this requirement, 53 State agencies will each provide, on average, 794,055.70 change report forms to households upon initial application, recertification, and when any household submits a change report. Thus, the information collection activities associated with this requirement result in 42,084,952 responses for State agencies. FNS estimates that it takes States approximately 1 minute (0.0167 hours) per response, resulting in 702,818.70 burden hours. This adjustment to the burden reflects an increase of 42,084,952 total annual responses and 702,818.70 total annual burden hours for States agencies. FNS also estimates that 42,084,952 households will each complete one change report form. Thus, the information collection activities associated with this requirement result in 42,084,952 responses for households. FNS estimates that it takes households approximately 1 minute (0.0167 hours) per response, resulting in 702,818.70 burden hours. This adjustment to the burden reflects an increase of 42,084,952 total annual responses and 702,818.70 total annual burden hours for households.

11. Notice of Eligibility, Denial, or Pending Status (7 CFR 273.10(g)(1)(i) & (ii) & (iii)): For State agencies, the burden associated with this requirement is included in the burden table of the currently approved collection. However, for households, this requirement is not included as a separate entry in the burden table.

Under this requirement 53 State agencies will each send, on average, 687,625.36 notices to households to advise them of the disposition of their application for initial certification or recertification. Thus, the information collection activities associated with this requirement result in 36,444,144 responses for State agencies. FNS estimates that it takes States approximately 3 minutes (0.0501 hours) per response, resulting in 1,825,851.61 burden hours. The currently approved number of responses and burden hours for this requirement are 37,749,439.21 and 1,260,831.27, respectively. This adjustment to the burden reflects a decrease of 1,305,295.21 total annual responses and an increase of 565,020.34 total annual burden hours for States agencies. FNS also estimates that 29,155,315 households will each read one notice. Thus, the information collection activities associated with this requirement result in 29,155,315 responses for households. FNS estimates that it takes households approximately 5 minutes (0.0835 hours) per response, resulting in 2,434,468.80 burden hours. This adjustment to the burden reflects an increase of 29,155,315 total annual responses and 2,434,468.80 total annual burden hours for households.

12. Notice of Missing or Incomplete Report (7 CFR 273.12(a)(4)(iii) & 273.12(a)(5)(iii)(D)): For State agencies, the burden associated with this requirement is included in the burden table of the currently approved collection. However, for households, this requirement is not included as a separate entry in the burden table.

Under this requirement, 53 State agencies will each send, on average, 1,009.17 notices to ongoing households to advise them when they have failed to submit the required monthly, quarterly or semiannual report altogether or, if the household submitted the report, that some of the information required to be included in such reports was not provided. Thus, the information collection activities associated with this requirement result in 53,486 responses for State agencies. FNS estimates that it takes States approximately 3 minutes (0.0501 hours) per response, resulting in 2,679.65 burden hours. The currently approved number of responses and burden hours for this requirement are 60,942.05 and 2,035.46, respectively. This adjustment to the burden reflects a decrease of 7,456.05 total annual responses and an increase of 644.18 total annual burden hours for States agencies. FNS also estimates that 42,789 households will each read one notice. Thus, the information collection activities associated with this requirement result in 42,789 responses for households. FNS estimates that it takes households approximately 5 minutes (0.0835 hours) per response, resulting in 3,572.88 burden hours. This adjustment to the burden reflects an increase of 42,789 total annual responses and 3,572.88 total annual burden hours for households.

13. Notice of Expiration (7 CFR 273.14(b)(1)): For State agencies, the burden associated with this requirement is included in the burden table of the currently approved collection. However, for households, this requirement is not included as a separate entry in the burden table.

Under this requirement, 53 State agencies will each send, on average, 365,751.11 notices to currently participating households at least 30 days prior to the expiration of their current certification period. Thus, the information collection activities associated with this requirement result in 19,384,809 responses for State agencies. FNS estimates that it takes States approximately 3 minutes (0.0501 hours) per response, resulting in 971,178.93 burden hours. The currently approved number of responses and burden hours for this requirement are 22,087,011.18 and 737,706.17, respectively. This adjustment to the burden reflects a decrease of 2,702,202.18 total annual responses and an increase of 233,472.76 total annual burden hours for States agencies. FNS also estimates that 15,507,847 households will each read one notice. Thus, the information collection activities associated with this requirement result in 15,507,847 responses for households. FNS estimates that it takes households approximately 5 minutes (0.0835 hours) per response, resulting in 1,294,905.22 burden hours. This adjustment to the burden reflects an increase of 15,507,847 total annual responses and 1,294,905.22 total annual burden hours for households.

FNS made the above adjustments to more accurately reflect the burden associated with the information collection requirements at 7 CFR parts 271, 272, and 273.

Considering all burden adjustments made as part of this renewal (e.g., modification of hourly burden estimates, inclusion of burden for existing requirements not delineated in previous burden tables), FNS is requesting an overall burden of 937,793,284.93, rounded to 937,793,285, total annual responses and 112,543,753.58, rounded to 112,543,754, total annual burden hours. These burden estimates include 772,614,488.93 total annual responses and 108,220,423.43 total annual burden hours for reporting by State agencies and Individuals/Households. The estimates also include 165,178,796.00 total annual responses and 4,323,340.14 total annual burden hours for recordkeeping by Local agencies. A breakdown of the burden estimates per type of affected public is provided below.

Reporting Burden for State Agencies

Estimated Total Number of Respondents: 53.

Estimated Frequency of Responses per Respondents: 7,389,511.23.

Estimated Total Annual Responses: 391,644,095.

Estimated Time per Response: 0.1202.

Estimated Total Annual Reporting Burden: 47,062,598.20.

Reporting Burden for Individuals/Households

Estimated Total Number of Respondents: 19,699,000.

Estimated Frequency of Responses per Respondents: 19.34.

Estimated Total Annual Responses: 380,970,394.

Estimated Time per Response: 0.1605.

Estimated Total Annual Reporting Burden: 61,157,815.23.

Recordkeeping Burden for Local Agencies

Estimated Total Number of Recordkeepers: 2,724.

Estimated Frequency of Responses per Recordkeeper: 60,638.32.

Estimated Total Annual Responses: 165,178,796.00.

Estimated Time per Record: 0.0262.

Estimated Total Annual Recordkeeping Burden: 4,323,340.14.

Overall Grand Total Reporting and Recordkeeping Burden for All Affected Public

Estimated Overall Total Number of Respondents: 19,701,777.

Estimated Overall Frequency of Responses per Respondents: 47.60.

Estimated Overall Total Annual Responses: 937,793,284.93.

Estimated Overall Time per Response: 0.12.

Estimated Overall Grand Total Annual Reporting and Recordkeeping Burden: 112,543,753.58.

The currently approved burden for this information collection is 643,938,886 total annual responses and 77,690,005 total annual burden hours. Thus, when compared to the burden in the currently approved information collection, the adjustments in this renewal represent an increase of 293,854,398.93, rounded to 293,854,399, total annual responses and 34,853,748.58, rounded to 34,853,749, total annual burden hours. All burden changes associated with the renewal of this information collection are due to adjustments.

FNS is currently in the process of conducting less than ten consultations with State agencies and FNS staff regarding the accuracy of the burden estimates in this information collection, including the validity of the methodology and assumptions that were used to estimate the burden. The inputs from those consultations will be considered, along with the public comments received in response to this notice, as FNS finalizes the burden estimate to be included in the request for OMB for approval.

FNS SNAP Forms ICR Total Burden Estimate
[OMB Control No. 0584-0064]
Affected public | Estimated number of respondent | Estimated number of responses annually per respondent | Estimated total annual responses | Estimated average number of hours per response | Estimated total hours
Reporting Burden:
State Agencies | 53 | 7,389,511.23 | 391,644,095.00 | 0.1202 | 47,062,598.20
Local Agencies | 0 | 0 | 0 | 0 | 0
Individuals/Households | 19,699,000 | 19.34 | 380,970,393.93 | 0.1605 | 61,157,815.23
Total Estimated Reporting Burden | 19,699,053 | 39.22 | 772,614,488.93 | 0.1400 | 108,220,413.43
Recordkeeping Burden:
State Agencies | 0 | 0 | 0 | 0 | 0
Local Agencies | 2,724 | 60,638.32 | 165,178,796.00 | 0.0262 | 4,323,340.14
Individuals/Households | 0 | 0 | 0 | 0 | 0
Total Estimated Recordkeeping Burden | 2,724 | 60,638.32 | 165,178,796.00 | 0.0262 | 4,323,340.14
Total of Reporting and Recordkeeping for #0584-0064 | 19,701,777 | 47.60 | 937,793,284.93 | 0.1200 | 112,543,753.58

Pamilyn Miller,
Administrator, Food and Nutrition Service.

[FR Doc. 2020-12237 Filed 6-4-20; 8:45 am]

BILLING CODE 3410-30-P